DEPARTMENT OF TRANSPORTATION

Federal Motor Carrier Safety Administration

[Docket No. FMCSA-2004-19185]

Notice of Request for Clearance of a New Information Collection: Bus Crash Causation Study

AGENCY: Federal Motor Carrier Safety Administration (FMCSA), DOT.

ACTION: Notice; request for comments.

SUMMARY: In accordance with the requirement in section 3506(c)(2)(A) of the Paperwork Reduction Act of 1995 (PRA), the FMCSA is announcing that the new information collection request described in this notice is being sent to the Office of Management and Budget (OMB) for review and approval. We are required under the PRA to send information collection requests to OMB. This information collection is related to a study of the causation of commercial motor vehicle crashes mandated by the Motor Carrier Safety Improvement Act of 1999. The bus study will fulfill the bus portion of this mandate and aid in the determination of the reasons for, and factors contributing to, serious bus crashes. The Federal Register notice announcing a 60-day comment period on this information collection was published on August 23, 2004 (69 FR 51879).

DATES: Please submit comments by March 16, 2005.

ADDRESSES: Mail or hand deliver comments to the U.S. Department of Transportation, Dockets Management Facility, Room PL-401, 400 Seventh Street, SW., Washington, DC 20590, or submit electronically at http://dmses.dot.gov/submit. Be sure to include the docket number appearing in the heading of this document on your comment. All comments received will be available for examination and copying at the above address from 9 a.m. to 5 p.m., e.t., Monday through Friday, except Federal holidays. If you would like to be notified when your comment is received, you must include a self-addressed, stamped postcard or you may print the acknowledgment page that appears after submitting comments electronically.

FOR FURTHER INFORMATION CONTACT: Mr. Ralph Craft, Program Manager, Bus Crash Causation Study, (202) 366-0324, Office of Information Management, Analysis Division, Federal Motor Carrier Safety Administration, 400 7th Street SW., Suite 8214, Washington, DC 20590. Office hours are from 7 a.m. to 4:30 p.m., e.t., Monday through Friday, except Federal holidays.

SUPPLEMENTARY INFORMATION: Title: Bus Crash Causation Study.

OMB Control Number: None.

Background: No national database exists that contains information describing the causes of, the reasons for, and the factors contributing to bus crashes. The purpose of the Bus Crash Causation Study is to gather this information for serious bus crashes. With this data, FMCSA and the States will be able to more effectively implement countermeasures to reduce the occurrence and severity of these crashes. The study is required under section 224 of the Motor Carrier Safety Improvement Act of 1999 (Public Law 106-159, 113 Stat. 1748 (December 9, 1999). Buses are defined as vehicles designed or used to transport 9 to 15 people (including the driver) for compensation, or more than 15 people for any purpose.

The FMCSA will conduct a three-part bus crash causation study beginning in 2004. The three parts of the study are as follows: (1) Mining current databases, such as the Fatality Analysis Reporting System (FARS), Buses Involved in Fatal Accidents (BIFA) and Motor Carrier Management Information System (MCMIS) for causation factors; (2) evaluating insurance companies data to assess the quality, quantity and usefulness of bus crash causation data; and (3) collecting extensive data on a sample of crashes in the field. FMCSA field staff, FMCSA contractors and New Jersey State Police (NJSP) will collect more than 400 pieces of data on 50-100 crashes involving commercial buses in northern and central New Jersey throughout 2005. Transit and school buses are excluded from the study. The New Jersey State safety agencies will also be important partners in this study at several levels including: data collection form design, crash notification, crash investigation and bus post crash inspections.

Respondents: The respondents will be individuals involved in the selected bus crashes including the bus drivers, other drivers, passengers, witnesses and motor carrier officials.

Average Burden Per Response: 1 hour for non-bus company personnel and 2 hours for bus company drivers and representatives.

Estimated Total Annual Burden: The estimated total annual burden is 900 hours [(500 interviews × 1 hour per response) 500 hours + (200 interviews × 2 hours per response) 400 hours = 900 hours].

Authority: The Paperwork Reduction Act of 1995, 44 U.S.C. Chapter 35, as amended; Public Law 106-159, 113 Stat. 1748 (December 9, 1999); and 49 CFR 1.73.

Issued on: November 4, 2004.
Annette M. Sandberg,
Administrator.

[FR Doc. 05-2757 Filed 2-11-05; 8:45 am]

BILLING CODE 4910-EX-P